ENVIRONMENTAL PROTECTION AGENCY

40 CFR Part 52

[UT-001-0033; FRL-6996-9]

Clean Air Act Promulgation of Extension of Attainment Dates for PM 10 Nonattainment Areas; Utah

Correction

In rule document 01-15031, beginning on page 32752, in the issue of Monday, June 18, 2001, make the following corrections:

1. On page 32754, in the first column, in the 12th line, “(SOPMx)” should read “ (SOx)”.

2. On page 32755, in the second column, under the heading Summary of Public Comments and EPA's Responses, in the fifth paragraph, the sixth line, after the word “Area” remove the “.”.

3. On page 32760, in the second column, under the heading List of Subjects, in the eighth line, after “part 52” add “subpart TT”.

[FR Doc. C1-15031 Filed 6-28-01; 8:45 am]

BILLING CODE 1505-01-D

DEPARTMENT OF JUSTICE

AAG/A Order No. 230-2001

Privacy Act of 1974; System of Records

Correction

In notice document 01-13860 beginning on page 29992 in the issue of Monday, June 4, 2001, make the following corrections:

1. On page 29992, in the second column, in the first paragraph, in the seventh line, “systems” should read “Systems”.

2. On the same page, in the third column, in the third paragraph beginning with “Civil Division”, in the third line, “(53 FR 4,507, Oct 17, 1988)” should read “(53 FR 40,507, Oct 17, 1988)”.

3. On page 29993, in the first column, in the seventh paragraph, in the ninth line, “[30 days after publication in the Federal Register].” should read “July 5, 2001.”.

4. On the same page, in the second column, in the first paragraph, in the third line, “form” should read “from”.

5. On the same page, in the same column, in the same paragraph, in the sixth line from the bottom, “investigators” should read “investigations”.

6. On the same page, in the same column, in the second paragraph, in the second line, “correspondence's” should read “correspondent's ”.

7. On the same page, in the same column, in the same paragraph, in the eleventh line from the bottom, “goods” should read “records”.

8. On the same page, in the same column, in the same paragraph, in the fourth line from the bottom, “database” should read “databases”.

9. On the same page in the same column, in the same paragraph, the last line, “seperately-notices” should read “seperately- noticed”.

10. On the same page, in the same column, in the fourth paragraph, in the first line “System” should read “system”.

11. On the same page, in the third column, in the same paragraph, in the last line, “response” should read “responses”.

12. On the same page, in the same column, in paragraph “H”, in the fourth line, “lettering of a letter” should read “letting of a license”.

13. On the same page, in the same column, in the same paragraph, in the sixth line, remove the “ ; ” after benefit and replace with a “ , ”.

14. On page 29994, in the first column, in the fifth column under “RETRIEVABILITY:”, in the third line, “subject matter of topic” should read “subject matter or topic”.

[FR Doc. C1-13860 Filed 6-28-01; 8:45 am]

BILLING CODE 1505-01-D

DEPARTMENT OF JUSTICE

[AAG/A Order No. 231-2001]

Privacy Act of 1974, System of Records

Correction

In notice document 01-13861 beginning on page 29994 in the issue of Monday, June 4, 2001, make the following corrections:

1. On page 29994, in the third column, in the first paragraph, in the ninth line, after the word “Appeals”, insert the following text: “DOJ/004. Most components of the Department maintain and operate systems of records for their Freedom of Information Act (FOIA), Privacy Act, and Mandatory Declassification Review request and administrative appeals,”.

2. On page 29995, in the first column, in the eleventh paragraph, under “Office of Legal Policy”, in the third line, “JUSTICE/OPA-001” should read “JUSTICE/OLP-001 ”.

3. On the same page, in the same column, in the thirteenth paragraph, under “Office of Professional Responsibility”, in the second line, “Freedom of Informationt/Privacy Act (FOIA) Records,”, should read “Freedom of Information/Privacy Acts (FOIA) Records,”.

4. On the same page, in the second column, in the second paragraph, in the tenth line “[30 days after publication in the Federal Register ]” should read, “July 5, 2001”.

[FR Doc. C1-13861 Filed 6-28-01; 8:45 am]

BILLING CODE 1505-01-D